DEPARTMENT OF COMMERCE

International Trade Administration

[A-570-016]

Certain Passenger Vehicle and Light Truck Tires From the People's Republic of China: Amended Final Results of Antidumping Duty Administrative Review; 2021-2022

AGENCY: Enforcement and Compliance, International Trade Administration, Department of Commerce.

SUMMARY: The U.S. Department of Commerce (Commerce) is amending the final results of the administrative review of the antidumping duty order on passenger vehicle and light truck tires from the People's Republic of China (China) to correct a ministerial error. The period of review (POR) is August 1, 2021, through July 31, 2022.

DATES: Applicable April 15, 2024.

FOR FURTHER INFORMATION CONTACT: Caroline Carroll, AD/CVD Operations, Office IX, Enforcement and Compliance, International Trade Administration, U.S. Department of Commerce, 1401 Constitution Avenue NW, Washington, DC 20230; telephone: (202) 482-4948.

SUPPLEMENTARY INFORMATION:

Background

On March 12, 2024, Commerce published the Final Results in the Federal Register.¹ Also on March 12, 2024, we received a timely submitted ministerial error allegation from Giti.² On March 13, 2024, we received rebuttal comments from the petitioner.³ We are amending the Final Results to correct the ministerial error Giti alleged.

¹ See Certain Passenger Vehicle and Light Truck Tires from the People's Republic of China: Final Results of Antidumping Duty Administrative Review and Final Determination of No Shipments; 2021-2022, 89 FR 17817 (March 12, 2024) (Final Results), and accompanying Issues and Decision Memorandum (IDM).

² See Giti's Letter, “Ministerial Errors Comment,” dated March 12, 2024 (Ministerial Error Comments). Giti consists of the following companies: Giti Tire Global Trading Pte. Ltd.; Giti Radial Tire (Anhui) Company Ltd.; Giti Tire (Fujian) Company Ltd.; Giti Tire (Hualin) Company, Ltd.; Giti Tire Greatwall Company. Ltd.; Giti Tire (Anhui) Company; Giti Tire (Yinchuan) Company Ltd.; and Giti Tire (Chongqing) Company Ltd. (collectively, Giti).

³ The petitioner is the United Steel, Paper and Forestry, Rubber, Manufacturing, Energy, Allied Industrial and Service Workers International Union, AFL-CIO, CLC. See Petitioner's Letter, “Request to Reject Giti's Untimely New Argument,” dated March 13, 2024.

Legal Framework

Section 751(h) of the Tariff Act of 1930, as amended (the Act), defines a “ministerial error” as including “errors in addition, subtraction, or other arithmetic function, clerical errors resulting from inaccurate copying, duplication, or the like, and any other unintentional error which the administering authority considers ministerial.” ⁴ With respect to final results of administrative reviews, 19 CFR 351.224(e) provides that Commerce “will analyze any comments received and, if appropriate, correct any . . . ministerial error by amending the final results of review . . .”

⁴ See 19 CFR 351.224(f).

Ministerial Error

In the Final Results, we continued to rely on a boat freight surrogate value using data from Maersk stated on a U.S. dollar per-kilogram basis.⁵ In its Ministerial Error Comments, Giti alleged that Commerce intended to value the boat freight surrogate value on a per-kilogram, per-kilometer basis, noting that, in the calculation of boat freight, Commerce multiplied the input quantity in kilograms by both the boat freight surrogate value and a distance in kilometers.⁶

⁵ See Final Results IDM at Comment 10.

⁶ See Ministerial Error Comments at 3.

We agree with Giti that we made a ministerial error in the Final Results pursuant to section 751(h) of the Act and 19 CFR 351.224(f) and have amended our calculations to correct the calculation of boat freight to remove the distance in kilometers.

Pursuant to 19 CFR 351.224(e), we are amending the Final Results to correct this ministerial error in the calculation of the weighted-average dumping margin for Giti, which changes from 53.41 percent to 20.52 percent. Furthermore, based on the revised weighted-average dumping margin calculated for Giti, we are also amending the rate for the companies not selected for individual examination in this review, which changes from 27.94 percent to 11.50 percent.⁷

⁷ See Memorandum, “Calculation of the Amended Final Cash Deposit Rate for Non-Selected Companies,” dated concurrently with this notice.

For a complete discussion of the ministerial error allegation, as well as Commerce's analysis, see the accompanying Ministerial Error Memorandum.⁸ The Ministerial Error Memorandum is a public document and is on file electronically via ACCESS. ACCESS is available to registered users at https://access.trade.gov.

⁸ See Memorandum, “Analysis of Ministerial Error Allegation,” dated concurrently with, and hereby adopted by, this notice (Ministerial Error Memorandum); see also Memorandum, “Calculations for Giti for the Amended Final Results,” dated concurrently with this notice.

Amended Final Results of Review

As a result of correcting the ministerial error described above, we determine the following estimated weighted-average dumping margins for the period August 1, 2021, through July 31, 2022:

Exporter | Weighted- average dumping margin (percent)
Giti Tire Global Trading Pte. Ltd.; Giti Radial Tire (Anhui) Company Ltd.; Giti Tire (Fujian) Company Ltd.; Giti Tire (Hualin) Company Ltd.; Giti Tire Greatwall Company, Ltd.; Giti Tire (Anhui) Company, ltd.; Giti Tire (Yinchuan) Company, Ltd.; and Giti Tire (Chongqing) Company, Ltd | 20.52
Companies Not Selected for Individual Review ⁹ | 11.50

Disclosure

We intend to disclose the calculations performed in connection with these amended final results of review to parties in this review within five days of the date of publication of this notice in the Federal Register, in accordance with 19 CFR 351.224(b).

⁹ See the appendix for the list of these companies.

Assessment Rates

Pursuant to section 751(a)(2)(C) of the Act, and 19 CFR 351.212(b)(1), Commerce has determined, and U.S. Customs and Border Protection (CBP) shall assess, antidumping duties on all appropriate entries of subject merchandise in accordance with the amended final results of this review. Commerce intends to issue assessment instructions to CBP no earlier than 35 days after the date of publication of the amended final results of this review in the Federal Register. If a timely summons is filed at the U.S. Court of International Trade, the assessment instructions will direct CBP not to liquidate relevant entries until the time for parties to file a request for a statutory injunction has expired (i.e., within 90 days of publication).

For Giti and Sumitomo, we calculated importer-specific assessment rates on the basis of the ratio of the total amount of antidumping duties calculated for each importer's examined sales and the total entered value of the sales, in accordance with 19 CFR 351.212(b)(1).¹⁰ Where either a respondent's weighted-average dumping margin is zero or de minimis, within the meaning of 19 CFR 351.106(c)(1) of the Act, or an importer-specific rate is zero or de minimis, we will instruct CBP to liquidate appropriate entries without regard to antidumping duties.

¹⁰ Sumitomo's dumping margin did not change in these amended final results.

Pursuant to Commerce's assessment practice,¹¹ for entries that were not reported in the U.S. data submitted by Giti, we will instruct to CBP to liquidate such entries at the China-wide rate (i.e., 76.46 percent).¹²

¹¹ See Non-Market Economy Antidumping Proceedings: Assessment of Antidumping Duties, 76 FR 65694 (October 24, 2011), for a full discussion of this practice.

¹² See Certain Passenger Vehicle and Light Truck Tires from the People's Republic of China: Amended Final Affirmative Antidumping Duty Determination and Antidumping Duty Order; and Amended Final Affirmative Countervailing Duty Determination and Countervailing Duty Order, 80 FR 47902, 47906 (August 10, 2015) (Order).

For the respondents not selected for individual examination in this administrative review that qualified for a separate rate, the assessment rate will be equal to the simple average of the margin calculated for Giti in these amended final results and Sumitomo in the Final Results.

Cash Deposit Requirements

The following amended cash deposit requirements will be effective for all shipments of the subject merchandise entered, or withdrawn from warehouse, for consumption on or after March 12, 2024, the publication date of the Final Results, as provided by section 751(a)(2)(C) of the Act: (1) the amended cash deposit rate for Giti and the other exporters not individually examined in this administrative review that have a separate rate, the cash deposit rate will be the rate established in the amended final results of review (except, if the rate is zero or de minimis, then a cash deposit rate of zero will be established for that company); (2) for previously investigated or reviewed exporters not listed in the table above that have separate rates, the cash deposit rate will continue to be the existing exporter-specific rate published for the most recently-completed segment of this proceeding; (3) for all Chinese exporters of subject merchandise that have not been found to be entitled to a separate rate, the cash deposit rate will be the rate for the China-wide entity (i.e., 76.46 percent); and (4) for all exporters of subject merchandise which are not located in China and have not received their own rate, the cash deposit rate will be the rate applicable to the Chinese exporter(s) that supplied that non-China exporter. These cash deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice serves as the final reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

We are issuing and publishing these amended final results of review in accordance with sections 751(h) and 777(i) of the Act, and 19 CFR 351.224(e).

Dated: March 29, 2024.
Abdelali Elouaradia,
Deputy Assistant Secretary for Enforcement and Compliance.

Appendix

Separate Rate Companies

1. Anhui Jichi Tire Co., Ltd.

2. Hankook Tire China Co., Ltd.

3. Jiangsu Hankook Tire Co., Ltd.

4. Koryo International Industrial Limited

5. Mayrun Tyre (Hong Kong) Limited

6. Qingdao Keter International Co., Limited

7. Qingdao Sentury Tire Co., Ltd.; Sentury (Hong Kong) Trading Co., Limited

8. Qingdao Sunfulcess Tyre Co., Ltd.

9. Shandong Haohua Tire Co., Ltd.

10. Shandong Linglong Tyre Co., Ltd.

11. Shandong New Continent Tire Co., Ltd.

12. Shandong Province Sanli Tire Manufactured Co., Ltd.

[FR Doc. 2024-07902 Filed 4-12-24; 8:45 am]

BILLING CODE 3510-DS-P